DEPARTMENT OF TRANSPORTATION

Federal Aviation Administration

[Docket No. FAA-2010-0109]

Notice on Waiver of the Terms of the Order Limiting Scheduled Operations at LaGuardia Airport

ACTION: Extension of Time for Delta Airlines and US Airways to Notify the FAA of Intent to Proceed with Slot Transfer Transaction.

SUMMARY: This action extends the deadline to July 2, 2010, for Delta and US Airways to notify the FAA whether they intend to proceed with the slot transfer transaction subject to the Waiver of the Terms of the Order Limiting Scheduled Operations at LaGuardia Airport.

If you wish to review the background documents or comments received in this proceeding, you may go to http://www.regulations.gov at any time and follow the online instructions for accessing the electronic docket. You may also go to the U.S. Department of Transportation's Docket Operations in Room W12-140 on the ground floor of the West Building at 1200 New Jersey Avenue, SE., Washington, DC between 9 a.m. and 5 p.m. Monday through Friday, except Federal holidays.

DATES: Delta and US Airways must notify the FAA in writing by July 2, 2010, as to whether they intend to proceed with the slot transfer transaction as described in the Notice issued May 4, 2010. The waiver is effective upon Delta and US Airways satisfying the conditions required by that Notice, as amended by this extension of time.

FOR FURTHER INFORMATION CONTACT: Rebecca MacPherson, Assistant Chief Counsel for Regulations, by telephone at (202) 267-3073 or by electronic mail at Rebecca.macpherson@faa.gov; or Jonathan Moss, Deputy Assistant General Counsel for Operations, by telephone at (202) 366-4710 or by electronic mail at jonathan.moss@dot.gov.

SUPPLEMENTARY INFORMATION: On May 4, 2010, Ray LaHood, Secretary of the Department of Transportation (DOT) and J. Randolph Babbitt, FAA Administrator, granted, subject to conditions, a joint waiver request of Delta Air Lines and US Airways from the prohibitions on purchasing operating authorizations (“slots” or “slot interests”) at LaGuardia Airport (LGA). Notice on Petition for Waiver of the Terms of the Order Limiting Scheduled Operations at LaGuardia Airport, 75 Federal Register 26,322 (May 11, 2010) (hereinafter, the “Waiver”).

The Waiver permits the carriers to consummate a transaction in which Delta would transfer 42 pairs of slot interests to US Airways at Ronald Reagan Washington National Airport (DCA), international route authorities to Sao Paulo and Tokyo; and terminal space at the Marine Air Terminal at LaGuardia Airport (LGA). US Airways would transfer 125 pairs of slot interests to Delta at LGA, and lease an additional 15 pairs of LGA slot interests with a purchase option, together with terminal space in LGA's Terminal C. The grant is subject to the conditions that the carriers dispose of 14 pairs of slot interests at DCA and 24 pairs of slot interests at LGA to eligible new entrant and limited incumbent carriers pursuant to certain procedures and achieve a mutually satisfactory agreement regarding gates and associated facilities with any such purchaser.

The Waiver also requires Delta and US Airways to notify the FAA, in writing, within 30 days, whether they intend to proceed with the slot transfer transaction. If they intend to consummate the slot transfer transaction subject to the waiver, their notice must provide the following information for the divested slots:

(1) Operating Authorization number (LGA) or slot number (DCA) and time;

(2) Frequency;

(3) Effective Date(s);

(4) Other pertinent information, if applicable; and

(5) Carrier's authorized representative.¹

¹ 75 FR 26,322 at 26,337 (May 11, 2010).

On June 3, 2010, Delta and US Airways jointly filed a letter requesting an extension of the deadline until July 2, 2010. The FAA finds that granting this extension of time would not adversely affect the public interest.

Accordingly, the FAA grants this request for extension, and Delta and US Airways must notify, in writing, the FAA whether they intend to proceed with the slot transfer transaction by July 2, 2010.

Issued in Washington, DC, on June 4, 2010.
David Grizzle,
Acting Deputy Administrator, Federal Aviation Administration.
Susan Kurland.
Assistant Secretary for Aviation and International Affairs.

[FR Doc. 2010-13904 Filed 6-9-10; 8:45 am]

BILLING CODE 4910-13-P